DEPARTMENT OF COMMERCE

International Trade Administration

[A-588-876]

Steel Concrete Reinforcing Bar From Japan: Final Affirmative Determination of Sales at Less Than Fair Value

AGENCY: Enforcement and Compliance, International Trade Administration, U.S. Department of Commerce.

SUMMARY: The Department of Commerce (the Department) determines that imports of steel concrete reinforcing bar (rebar) from Japan are being, or are likely to be, sold in the United States at less than fair value (LTFV). The period of investigation (POI) is July 1, 2015, through June 30, 2016. The final dumping margins of sales at LTFV are listed below in the “Final Determination” section of this notice.

DATES: Effective May 22, 2017.

FOR FURTHER INFORMATION CONTACT: David Lindgren, AD/CVD Operations, Office VII, Enforcement and Compliance, International Trade Administration, U.S. Department of Commerce, 1401 Constitution Avenue NW., Washington, DC 20230; telephone: (202) 482-3870.

SUPPLEMENTARY INFORMATION:

Background

On March 7, 2017, the Department published the Preliminary Determination of this antidumping duty (AD) investigation.¹ We invited interested parties to submit comments on the Preliminary Determination, but we received no comments. Further on, April 4, 2017, the Department also invited interested parties to submit comments regarding the scope of the investigation; ² no interested parties submitted scope comments. Additionally, no interested party requested a hearing.

¹ See Steel Concrete Reinforcing Bar from Japan: Preliminary Affirmative Determination of Sales at Less Than Fair Value, 82 FR 12796 (March 7, 2017) (Preliminary Determination).

² See Memorandum to the File, “Scope Briefing Schedule for the Antidumping and Countervailing Duty Investigations of Steel Concrete Reinforcing Bar from Japan, the Republic of Turkey and Taiwan,” April 4, 2017.

Scope of the Investigation

The scope of the investigation covers rebar from Japan. As noted above, the Department did not receive any scope comments and has not updated the scope of the investigation since the Preliminary Determination. For a complete description of the scope of this investigation, see Appendix I.

Analysis of Comments Received

As noted above, we received no comments since the publication of the Preliminary Determination.

Changes Since the Preliminary Determination and Use of Adverse Facts Available

As stated in the Preliminary Determination, we found that the mandatory respondents, Jonan Steel Corporation (Jonan) and Kyoei Steel Ltd. (Kyoei), did not cooperate to the best of their abilities to comply with the Department's request for information. Accordingly, we determined it appropriate to apply facts otherwise available with adverse inferences in accordance with sections 776(a)-(b) of the Tariff Act of 1930, as amended (the Act). For the purposes of this final determination, the Department has made no changes to the Preliminary Determination.

All-Others Rate

As discussed in the Preliminary Determination, in accordance with section 735(c)(5)(B) of the Act, the Department based the selection of the “All-Others” rate on the simple average of the petition rates, resulting in an “All Others” rate of 206.43 percent. We have made no changes to the selection of this rate for this final determination.

Final Determination

The final weighted-average dumping margins are as follows:

Exporter/producer | Weighted- average margin (percent)
Jonan Steel Corporation | 209.46
Kyoei Steel Ltd. | 209.46
All-Others | 206.43

Disclosure

The weighted-average dumping margin assigned to Jonan and Kyoei in the Preliminary Determination was based on adverse facts available. As we have made no changes to the margin since the Preliminary Determination, no disclosure of calculations is necessary for this final determination.

Continuation of Suspension of Liquidation

In accordance with section 735(c)(1)(B) of the Act, the Department will instruct U.S. Customs and Border Protection (CBP) to continue to suspend liquidation of all appropriate entries of rebar from Japan, as described in Appendix I of this notice, which were entered, or withdrawn from warehouse, for consumption on or after March 7, 2017, the date of publication of the Preliminary Determination. Further, the Department will instruct CBP to require a cash deposit equal to the estimated amount by which the normal value exceeds the U.S. price as shown above.

International Trade Commission Notification

In accordance with section 735(d) of the Act, we will notify the U.S. International Trade Commission (ITC) of the final affirmative determination of sales at LTFV. Because the final determination in this proceeding is affirmative, in accordance with section 735(b)(2) of the Act, the ITC will make its final determination as to whether the domestic industry in the United States is materially injured, or threatened with material injury by reason of imports of rebar from Japan no later than 45 days after this final determination. If the ITC determines that material injury or threat of material injury does not exist, the proceeding will be terminated and all cash deposits will be refunded. If the ITC determines that such injury does exist, the Department will issue an AD order directing CBP to assess, upon further instruction by the Department, antidumping duties on all imports of the subject merchandise entered, or withdrawn from warehouse, for consumption on or after the effective date of the suspension of liquidation, as discussed in the “Continuation of Suspension of Liquidation” section.

Notification Regarding Administrative Protective Orders

This notice serves as a reminder to parties subject to an administrative protective order (APO) of their responsibility concerning the disposition of proprietary information disclosed under APO in accordance with 19 CFR 351.305(a)(3). Timely notification of the return of destruction of APO materials, or conversion to judicial protective order, is hereby requested. Failure to comply with the regulations and the terms of an APO is a sanctionable violation.

This determination is issued and published in accordance with sections 735(d) and 777(i)(1) of the Act.

Dated: May 15, 2017.
Ronald K. Lorentzen,
Acting Assistant Secretary for Enforcement and Compliance.

Appendix I

Scope of the Investigation

The merchandise subject to this investigation is steel concrete reinforcing bar imported in either straight length or coil form (rebar) regardless of metallurgy, length, diameter, or grade or lack thereof. Subject merchandise includes deformed steel wire with bar markings (e.g., mill mark, size, or grade) and which has been subjected to an elongation test.

The subject merchandise includes rebar that has been further processed in the subject country or a third country, including but not limited to cutting, grinding, galvanizing, painting, coating, or any other processing that would not otherwise remove the merchandise from the scope of the investigation if performed in the country of manufacture of the rebar.

Specifically excluded are plain rounds (i.e., nondeformed or smooth rebar). Also excluded from the scope is deformed steel wire meeting ASTM A1064/A1064M with no bar markings (e.g., mill mark, size, or grade) and without being subject to an elongation test.

The subject merchandise is classifiable in the Harmonized Tariff Schedule of the United States (HTSUS) primarily under item numbers 7213.10.0000, 7214.20.0000, and 7228.30.8010. The subject merchandise may also enter under other HTSUS numbers including 7215.90.1000, 7215.90.5000, 7221.00.0017, 7221.00.0018, 7221.00.0030, 7221.00.0045, 7222.11.0001, 7222.11.0057, 7222.11.0059, 7222.30.0001, 7227.20.0080, 7227.90.6030, 7227.90.6035, 7227.90.6040, 7228.20.1000, and 7228.60.6000.

HTSUS numbers are provided for convenience and customs purposes; however, the written description of the scope remains dispositive.

[FR Doc. 2017-10348 Filed 5-19-17; 8:45 am]

BILLING CODE 3510-DS-P